DEPARTMENT OF AGRICULTURE

Agricultural Marketing Service

[Doc. No. AMS-LPS-14-0061]

Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's intention to request approval from the Office of Management and Budget, for a Revision of the currently approved information collection used to compile and generate the Federally Inspected Estimated Daily Slaughter Report.

DATES: Comments must be received by October 17, 2014.

ADDITIONAL INFORMATION OR COMMENTS: Comments should be submitted electronically at http://www.regulations.gov. Comments may also be submitted to Kim Harmon, Assistant to the Director, Livestock, Poultry, and Grain Market News Division (LPGMN), Livestock, Poultry and Seed Program (LPS), Agricultural Marketing Service (AMS), U.S. Department of Agriculture; STOP 0252; 1400 Independence Avenue SW., Room 2619-S; Washington, DC 20250-0252. All comments should reference this publication number AMS-LPS-14-0061 and note the date and page number of this issue of the Federal Register.

Submitted comments will be available for public inspection at http://www.regulations.gov or at the above address during regular business hours. Comments submitted in response to this Notice will be included in the records and will be made available to the public. All comments received will be posted without change, including any personal information provided.

FOR FURTHER INFORMATION CONTACT: Kim Harmon, Assistant to the Director, LPGMN, AMS, USDA, by telephone at (202) 720-6231, or via email at Kim.Harmon@ams.usda.gov.

SUPPLEMENTARY INFORMATION:

Title: Plan for Estimating Daily Livestock Slaughter Under Federal Inspection.

OMB Number: 0581-0050.

Expiration Date of Approval: 01-31-2015.

Type of Request: Revision of a currently approved information collection.

Abstract: The Agricultural Marketing Act of 1946 (7 U.S.C. 1621-1627), section 203(g) directs and authorizes the collection and dissemination of marketing information including adequate outlook information, on a market area basis, for the purpose of anticipating and meeting consumer requirements, aiding in the maintenance of farm income, and to bring about a balance between production and utilization.

Under this market news program, USDA issues a market news report estimating daily livestock slaughter under Federal inspection. This report is compiled by AMS on a voluntary basis in cooperation with the livestock and meat industry. Market news reporting must be timely, accurate, and continuous if it is to be useful to producers, processors, and the trade in general. The daily livestock slaughter estimates are provided at the request of industry and are used to make production and marketing decisions.

The Daily Estimated Livestock Slaughter Under Federal Inspection Report is used by a wide range of industry contacts, including packers, processors, producers, brokers and retailers of meat and meat products. The livestock and meat industry requested that USDA issue slaughter estimates (daily and weekly), by species, for cattle, calves, hogs and sheep in order to assist them in making immediate production and marketing decisions and as a guide to the volume of meat in the marketing channel. The information requested from respondents includes their estimation of the current day's slaughter at their plant(s) and the actual slaughter for the previous day. Also, the Government is a large purchaser of meat and related products and this report assists other Government agencies in providing timely information on the quantity of meat entering the processing channels.

The information must be collected, compiled, and disseminated by an impartial third-party, in a manner which protects the confidentiality of the reporting entity. AMS is in the best position to provide this service.

Estimate of Burden: Public reporting burden for this collection of information is estimated to average .0333 hours per response.

Respondents: Business or other for-profit entities, individuals or households, farms, and the Federal Government.

Estimated Number of Respondents: 61.

Estimated Number of Responses: 15,860.00.

Estimated Number of Responses per Respondent: 260.

Estimated Total Annual Burden on Respondents: 528 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: August 12, 2014.
Rex Barnes,
Associate Administrator, Agricultural Marketing Service.

[FR Doc. 2014-19455 Filed 8-15-14; 8:45 am]

BILLING CODE 3410-02-P